FEDERAL MARITIME COMMISSION

Ocean Transportation Intermediary License Applicants

Notice is hereby given that the following applicants have filed with the Federal Maritime Commission an application for license as a Non-Vessel-Operating Common Carrier and Ocean Freight Forwarder-Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel-Operating Common Carrier and Ocean Freight Forwarder Transportation Intermediary Applicants:

Ves-Aire Shipping Inc., 5740 Hollywood Blvd. Ste. 201, Hollywood, FL 33021, Officers: Edgar D. Diaz, President (Qualifying Individual), Carmen Diaz, Vice President.

Global Logistics Services, Inc., 9667 NW. 33 Street, Miami, FL 33172, Officers: Ana Conlan, Vice President (Qualifying Individual), Ed Boroski, CEO.

Overseas Express Shipping LLC, 1139 East Jersey Street, Ste. 209, Elizabeth, NJ 07201, Officer: Thomas Osei, Sr., General Manager (Qualifying Individual), Yaw Amankwah, President.

JTS Freight Systems LLC, 81 Belvidere Rd., Glen Rock, NJ 07452, Officer: Frank Savino, President (Qualifying Individual).

Ocean Freight Forwarder-Ocean Transportation Intermediary Applicants:

Gene Y. Taguchi, 15504 S. Western Ave., Ste. 201-23, Gardena, CA 90249 (Qualifying Individual).

MIG Express LLC, 174 Main Street, Ste. 14, Nashua, NH 03060, Officer: Igors Ngin, Manager (Qualifying Individual).

Wilmoth Fast Forwarding, Inc., 13302 Michaelangelo Drive, Bakersfield, CA 93314, Officer: Marvin J. Hodgson, President (Qualifying Individual).

Total Global Solutions, Inc., 4290 Bells Ferry Rd., #224, Ste. 106, Kennesaw, GA 30144, Officers: Tomomi Hamamura, CFO/Treasurer (Qualifying Individual), Dennis R. Smith, CEO/President.

AAWI Logistical Services LLC, 1303 Columbia Drive, Ste. 217, Richardson, TX 75081, Officers: Rebecca Kelley-James, President, (Qualifying Individual), Dell James, Vice President.

Dated: October 5, 2009.
Karen V. Gregory,
Secretary.

[FR Doc. E9-24292 Filed 10-7-09; 8:45 am]

BILLING CODE P